DEPARTMENT OF LABOR

Employment and Training Administration

[NAFTA-04812]

Cemex Kosmos Cement Company, Pittsburgh Plant, Pittsburgh, PA; Notice of Affirmative Determination Regarding Application for Reconsideration

By letter of July 20, 2001 the International Brotherhood of Boiler Makers, Iron Ship Builders, Blacksmiths, Forgers and Helpers requested administrative reconsideration of the Department of Labor's Notice of Negative Determination Regarding Eligibility to Apply for NAFTA Transitional Adjustment Assistance, applicable to petition number NAFTA 04613. The denial notice was signed on June 26, 2001 and published in the Federal Register on July 11, 2001 (66 FR 36329).

The union requested administrative reconsideration based on the belief that Cemex (the acquiring company of the subject plant) replaced the subject plants customer base with imported cement products from Mexico.

Conclusion

After careful review of the application, I conclude that the claim is of sufficient weight to justify reconsideration of the Department of Labor's prior decision. The application is, therefore, granted.

Signed at Washington, DC this 3rd day of December 2001.
Edward A. Tomchick,
Director, Division of Trade Adjustment Assistance.

[FR Doc. 01-31150 Filed 12-17-01; 8:45 am]

BILLING CODE 4510-30-M